DEPARTMENT OF THE INTERIOR

Fish and Wildlife Service

Notice of Issuance of Permit for Marine Mammals

On October 19, 2000, a notice was published in the Federal Register, Vol. 65, No. 203, Page 62747, that an application had been filed with the Fish and Wildlife Service by U.S. Geological Survey to amend their permit (PRT-690038) to update their scientific research activities with polar bears.

Notice is hereby given that on January 5, 2001, as authorized by the provisions of the Marine Mammal Protection Act of 1972, as amended (16 U.S.C. 1361 et seq.) the Fish and Wildlife Service authorized the requested permit subject to certain conditions set forth therein.

On December 7, 2000, a notice was published in the Federal Register, Vol. 65, No. 236, Page 76662, that an application had been filed with the Fish and Wildlife Service by U.S. J. Herbert Fisher, Jr. for a permit (PRT-032816) to import one polar bear (Ursus maritimus) trophy taken from the M'Clintock Channel population, Canada for personal use.

Notice is hereby given that on January 9, 2000, as authorized by the provisions of the Marine Mammal Protection Act of 1972, as amended (16 U.S.C. 1361 et seq.), the Fish and Wildlife Service authorized the requested permit subject to certain conditions set forth therein.

Documents and other information submitted for this application is available for review by any party who submits a written request to the U.S. Fish and Wildlife Service, Division of Management Authority, 4401 North Fairfax Drive, Room 700, Arlington, Virginia 22203. Phone (703) 358-2104 or Fax (703) 358-2281.

Dated: January 17, 2001.
Anna Barry,
Branch of Permits, Division of Management Authority.

[FR Doc. 01-2019 Filed 1-22-01; 8:45 am]

BILLING CODE 4310-55-P